DEPARTMENT OF ENERGY

Federal Energy Regulatory Commission

Combined Notice of Filings #1

November 15, 2005.

Take notice that the Commission received the following electric rate filings.

Docket Numbers: ER02-2263-005.

Applicants: Southern California Edison Company.

Description: Southern California Edison Co submits a notice of change in status report pursuant to FERC's Order 652 issued on February 10, 2005.

Filed Date: November 2, 2005.

Accession Number: 20051108-0290.

Comment Date: 5 p.m. eastern time on Wednesday, November 23, 2005.

Docket Numbers: ER04-1137-000; ER06-19-001.

Applicants: MeadWestvaco Energy Services, LLC.

Description: MeadWestavco Energy Services, LLC notifies FERC of a change in name to NewPage Energy Services, LLC, effective September 30, 2005.

Filed Date: November 4, 2005.

Accession Number: 20051108-0208.

Comment Date: 5 p.m. eastern time on Friday, November 25, 2005.

Docket Numbers: ER05-1394-002.

Applicants: KGen Hot Spring LLC.

Description: KGen Hot Spring LLC submits, under protest, a Conditional Notice of Cancellation of FERC Rate Schedule No.1 in accordance with the October 20, 2005 Order.

Filed Date: November 4, 2005.

Accession Number: 20051109-0242.

Comment Date: 5 p.m. eastern time on Friday, November 25, 2005.

Docket Numbers: ER06-4-001.

Applicants: Michigan Electric Transmission Co., LLC.

Description: Michigan Electric Transmission Co, LLC submits revision to Interconnection Facilities Agreement with Wolverine Power Supply Cooperative.

Filed Date: November 4, 2005.

Accession Number: 20051109-0240.

Comment Date: 5 p.m. eastern time on Friday, November 25, 2005.

Docket Numbers: ER06-78-001.

Applicants: PJM Interconnection, L.L.C.

Description: PJM Interconnection, LLC submits substitute pages correcting the errors & omissions to Sixth Revised Sheet No. 24 to FERC Electric Tariff, Sixth Revised Volume No.1.

Filed Date: November 3, 2005.

Accession Number: 20051108-0257.

Comment Date: 5 p.m. eastern time on Friday, November 25, 2005.

Docket Numbers: ER06-156-000.

Applicants: Southern Company Services, Inc.

Description: Southern Company Services, Inc agent for Alabama Power Co submits cancellation of the Firm Power Purchase Contract with Alabama Municipal Electric Authority pursuant to section 35.15 of FERC's Regulations, Order 614.

Filed Date: November 3, 2005.

Accession Number: 20051108-0264.

Comment Date: 5 p.m. eastern time on Friday, November 25, 2005.

Docket Numbers: ER06-157-000.

Applicants: New York Independent System Operator, Inc.

Description: New York Independent System Operator, Inc submits Fifth Revised Sheet No. 4 et al to FERC Electric Tariff, Original Volume No. 1 in compliance with FERC's October 7, 2005 Order.

Filed Date: November 4, 2005.

Accession Number: 20051108-0263.

Comment Date: 5 p.m. eastern time on Friday, November 25, 2005.

Docket Numbers: ER06-159-000.

Applicants: Midwest Independent Transmission System Operator, Inc.

Description: Midwest Independent Transmission System Operator Inc et al proposed revisions to Attachment O of the Open Access Transmission and Energy Markets Tariff, FERC Electric Tariff, Third Revised Volume No. 1.

Filed Date: November 4, 2005.

Accession Number: 20051108-0204.

Comment Date: 5 p.m. eastern time on Friday, November 25, 2005.

Docket Numbers: ER06-160-000.

Applicants: Midwest Independent Transmission System Operator, Inc.

Description: Midwest Independent Transmission System Operator Inc submits the large Generator Interconnection Agreement with High Prairie Wind Farm II, LLC and Interstate Power and Light Company.

Filed Date: November 4, 2005.

Accession Number: 20051108-0205.

Comment Date: 5 p.m. eastern time on Friday, November 25, 2005.

Docket Numbers: ER06-161-000.

Applicants: PJM Interconnection, L.L.C.

Description: PJM Interconnection LLC submits revisions to Schedule 2 of the PJM Open Access Transmission Tariff to reflect new or revised revenue requirements for Reliant Energy Aurora LP et al.

Filed Date: November 4, 2005.

Accession Number: 20051108-0206.

Comment Date: 5 p.m. eastern time on Friday, November 25, 2005.

Docket Numbers: ER06-163-000.

Applicants: Southern California Edison Company.

Description: Southern California Edison submits a Letter Agreement with the City of Corona.

Filed Date: November 4, 2005.

Accession Number: 20051109-0172.

Comment Date: 5 p.m. eastern time on Friday, November 25, 2005.

Docket Numbers: ER06-167-001.

Applicants: Liberty Power Maryland LLC.

Description: Liberty Power Maryland, LLC submits amendment 1 to their petition for acceptance of FERC Electric Rate Schedule No. 1 Waivers and Blanket Authority and request for shortened notice period.

Filed Date: November 9, 2005.

Accession Number: 20051114-0003.

Comment Date: 5 p.m. eastern time on Tuesday, November 22, 2005.

Docket Numbers: ER06-170-000.

Applicants: Michigan Electric Transmission Co., LLC.

Description: Michigan Electric Transmission Co submits a revised version of the Interconnection Facilities Agreement with the City of Hart.

Filed Date: November 4, 2005.

Accession Number: 20051109-0173.

Comment Date: 5 p.m. eastern time on Friday, November 25, 2005.

Docket Numbers: ER06-171-000.

Applicants: Massachusetts Electric Company.

Description: Massachusetts Electric Co dba National Grid submits First Revised Sheet No.1 FERC Electric Tariff, First Revised Volume No. 1.

Filed Date: November 4, 2005.

Accession Number: 20051114-0100.

Comment Date: 5 p.m. eastern time on Friday, November 25, 2005.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Magalie R. Salas,
Secretary.

[FR Doc. E5-6417 Filed 11-21-05; 8:45 am]

BILLING CODE 6717-01-P